DEPARTMENT OF LABOR

Office of the Secretary

North American Agreement on Labor Cooperation; Notice of Extension of the Period of Review for Submission #2011-02

AGENCY: Bureau of International Labor Affairs, U.S. Department of Labor.

ACTION: Notice.

SUMMARY: The Office of Trade and Labor Affairs (OTLA) in the Bureau of International Labor Affairs of the U.S. Department of Labor has determined that an extension of time is required for its review of a public submission concerning Mexico filed under Article 16.3 of the North American Agreement on Labor Cooperation (NAALC).

OTLA received the submission on November 14, 2011, from the Sindicato Mexicano de Electricistas (SME) and 93 other organizations. The submission is available at http://www.dol.gov/ilab/programs/otla/freetradeagreement.htm.

OTLA accepted the submission for review on January 13, 2012 (77 FR 4366 (Jan. 27, 2012)), in accordance with its Procedural Guidelines, which are available at http://www.dol.gov/ilab/programs/otla/proceduralguidelines.htm. Acceptance triggers a 180-day review period within which OTLA must issue a public report, including a summary of the proceedings and any findings and recommendations, unless circumstances as determined by OTLA require an extension of time.

On May 25, 2012, OTLA received a supplemental submission from the submitters containing new allegations. In accordance with Section H.7 of its Guidelines, OTLA has determined that the circumstances require an extension of time to permit a thorough consideration of the supplemental submission and of information obtained after an OTLA fact-finding visit to Mexico in March.

DATES: Effective Date: June 25, 2012.

FOR FURTHER INFORMATION CONTACT: Gregory Schoepfle, Director, OTLA, U.S. Department of Labor, 200 Constitution Avenue NW., Room S-5303, Washington, DC 20210. Telephone: (202) 693-4900 (this is not a toll-free number).

Signed at Washington, DC, on June 25, 2012.
Carol Pier,
Acting Deputy Undersecretary for International Affairs.

[FR Doc. 2012-16140 Filed 6-29-12; 8:45 am]

BILLING CODE 4510-28-P